DEPARTMENT OF ENERGY

DOE Response to Recommendation 2015-1 of the Defense Nuclear Facilities Safety Board, Emergency Preparedness and Response at the Pantex Plant

AGENCY: Department of Energy.

ACTION: Notice.

SUMMARY: On November 24, 2015, the Defense Nuclear Facilities Safety Board transmitted Recommendation 2015-1, Emergency Preparedness and Response at the Pantex Plant, to the Department of Energy. In accordance with section 315(c) of the Atomic Energy Act of 1954, as amended, 42 U.S.C. 2286d(c), the following represents the Secretary of Energy's response to the Recommendation.

DATES: Comments, data, views, or arguments concerning the Secretary's response are due on or before March 4, 2016.

ADDRESSES: Please send to: Defense Nuclear Facilities Safety Board, 625 Indiana Avenue NW., Suite 700, Washington, DC 20004.

FOR FURTHER INFORMATION CONTACT: Mr. Dale Govan, Office of the Departmental Representative to the Defense Nuclear Facilities Safety Board, Office of Environment, Health, Safety and Security, U.S. Department of Energy, 1000 Independence Avenue SW., Washington, DC 20585.

Issued in Washington, DC on January 27, 2016.
Joe Olencz,
Departmental Representative to the Defense Nuclear Facilities Safety Board, Office of Environment, Health, Safety and Security.

January 13, 2016

The Honorable Joyce L. Connery

Chairman

Defense Nuclear Facilities Safety Board

625 Indiana Avenue NW, Suite 700

Washington, DC 20004

Dear Madam Chairman:

The Department of Energy (DOE) acknowledges receipt of Defense Nuclear Facilities Safety Board (Board) Recommendation 2015-1, Emergency Preparedness and Response at the Pantex Plant, which was published in the Federal Register on December 3, 2015.

The Department shares the Board's view that actions are needed to improve emergency preparedness and response at Pantex. DOE accepts Recommendation 2015-1, which complements improvement actions that the National Nuclear Security Administration (NNSA) has already taken at Pantex as part of the Implementation Plan for Recommendation 2014-1, Emergency Preparedness and Response.

We appreciate the Board's perspective and look forward to our continued interaction on preparing the Pantex Implementation Plan. Additionally, we appreciate the Board's consideration and incorporation of the Department's comments into Recommendation 2015-1. I have assigned Geoffrey L. Beausoleil, Manager, NNSA Production Office, to be the Department's Responsible Manager for this Recommendation.

If you have any questions, please contact Mr. Geoffrey L. Beausoleil at (865) 576-0752

Sincerely,

Ernest J. Moniz

[FR Doc. 2016-01981 Filed 2-2-16; 8:45 am]

BILLING CODE 6450-01-P